DEPARTMENT OF JUSTICE

[OMB 1140-0039]

Agency Information Collection Activities; Proposed eCollection eComments Requested; Extension of a Previously Approved Collection; Federal Firearms Licensee Firearms Inventory/Firearms in Transit Theft/Loss Report—ATF Form 3310.11/3310.11A

AGENCY: Bureau of Alcohol, Tobacco, Firearms and Explosives, Department of Justice.

ACTION: 60-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 60 days until August 14, 2023.

FOR FURTHER INFORMATION CONTACT: If you have additional comments especially on the estimated public burden or associated response time, suggestions, or need a copy of the proposed information collection instrument with instructions or additional information, contact: Neil Troppman, ATF National Tracing Center, either by mail at 244 Needy Road, Martinsburg, West Virginia 25405, by email at neil.troppman@atf.gov, or telephone at 304-260-3643.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Thefts or losses of firearms from the inventory of a Federal Firearms Licensee and from the collection of a licensed collector must be reported to the Attorney General and the appropriate local authorities within 48 hours of discovery.

Overview of This Information Collection

1. Type of Information Collection: Extension of a previously approved collection.

2. The Title of the Form/Collection: Federal Firearms Licensee Firearms Inventory/Firearms in Transit Theft/Loss Report.

3. The agency form number, if any, and the applicable component of the Department sponsoring the collection: Form number: ATF Form 3310.11/3310.11A. Component: Bureau of Alcohol, Tobacco, Firearms and Explosives, U.S. Department of Justice.

4. Affected public who will be asked or required to respond, as well as the obligation to respond: Affected Public: Business or other for-profit, Federal Government. The obligation to respond is mandatory. The statutory requirements are implemented in title 18 U.S.C. 923(g)(6).

5. An estimate of the total number of respondents and the amount of time estimated for an average respondent to respond: An estimated 4,000 respondents will utilize the form annually, and it will take each respondent approximately 24 minutes to complete their responses.

6. An estimate of the total annual burden (in hours) associated with the collection: The estimated annual public burden associated with this collection is 1,600 hours, which is equal to 4,000 (total respondents) * 1 (# of response per respondent) * .4 (24 minutes).

7. An estimate of the total annual cost burden associated with the collection, if applicable: There is no startup cost to the respondent. Respondents can electronically submit their responses or mail them to the National Tracing Center. The cost of postage is now $.63 cents. Therefore, the total cost is $2,520, which is equal to 4,000 (# of respondents) × $.63 cents (mailing cost per respondent).

Total Burden Hours
Activity | Number of respondents | Frequency | Total annual responses | Time per response (min.) | Total annual burden (hours)
ATF Form 3310.11/3310.11A | 4,000 | 1/annually | 4,000 | 24 | 1,600

If additional information is required contact: John R. Carlson, Department Clearance Officer, United States Department of Justice, Justice Management Division, Policy and Planning Staff, Two Constitution Square, 145 N Street NE, 4W-218, Washington, DC.

Dated: June 9, 2023.
John Carlson,
Department Clearance Officer for PRA, U.S. Department of Justice.

[FR Doc. 2023-12721 Filed 6-13-23; 8:45 am]

BILLING CODE 4410-FY-P